FEDERAL COMMUNICATIONS COMMISSION

[EB Docket No. 07-147; FCC 07-125]

Pendleton C. Waugh, Charles M. Austin, and Jay R. Bishop, Preferred Communication Systems, Inc., Preferred Acquisitions, Inc.—Order to Show Cause and Notice of Opportunity for Hearing; Correction

AGENCY: Federal Communications Commission.

ACTION: Notice; correction.

SUMMARY: The Federal Communications Commission published in the Federal Register on August 1, 2007, a summary of an Order to Show Cause and Notice of Opportunity for Hearing that sets for hearing a proceeding concerning whether Pendleton C. Waugh, Charles M. Austin, Jay R. Bishop, Preferred Communication Systems, Inc., and Preferred Acquisitions, Inc., violated the Commission's rules, whether forfeitures should be issued, and whether certain wireless licenses of Preferred Communication Systems, Inc., and Preferred Acquisitions, Inc., should be revoked. The summary that was published referenced “EB Docket No. 07-143” as the docket number for this matter. That reference was incorrect. This document corrects the docket number for this matter.

DATES: Effective on August 10, 2007.

FOR FURTHER INFORMATION CONTACT: Gary A. Oshinsky and Anjali K. Singh, Investigations and Hearings Division, Enforcement Bureau at (202) 418-1420; and Jennifer A. Lewis, Assistant Chief, Investigations and Hearings Division, Enforcement Bureau at (202) 418-1420.

SUPPLEMENTARY INFORMATION: The FCC published in the Federal Register on August 1, 2007, a summary of an Order to Show Cause and Notice of Opportunity for Hearing that sets for hearing a proceeding concerning whether Pendleton C. Waugh, Charles M. Austin, Jay R. Bishop, Preferred Communication Systems, Inc., and Preferred Acquisitions, Inc., violated the Commission's rules, whether forfeitures should be issued, and whether certain wireless licenses of Preferred Communication Systems, Inc., and Preferred Acquisitions, Inc., should be revoked. Inadvertently, the document contained an incorrect docket number, EB Docket No. 07-143. This amendment corrects that docket number.

In FR Doc. E7-14876, published on August 1, 2007, (72 FR 42088), on page 42088, make the following correction. On page 42088, in the second line of the header of the notice, change the docket number from EB Docket No. 07-143 to EB Docket No. 07-147.

Federal Communications Commission.
Marlene H. Dortch,
Secretary.

[FR Doc. E7-15705 Filed 8-9-07; 8:45 am]

BILLING CODE 6712-01-P